ENVIRONMENTAL PROTECTION AGENCY

[EPA-HQ-OAR-2004-0501; FRL 9516-9]

Agency Information Collection Activities; Submission to OMB for Review and Approval; Comment Request; EPA's Green Power Partnership and Combined Heat and Power Partnership (Renewal)

AGENCY: Environmental Protection Agency (EPA).

ACTION: Notice.

SUMMARY: In compliance with the Paperwork Reduction Act (PRA) (44 U.S.C. 3501 et seq.), this document announces that an Information Collection Request (ICR) has been forwarded to the Office of Management and Budget (OMB) for review and approval. This is a request to renew an existing approved collection. The ICR, which is abstracted below, describes the nature of the information collection and its estimated burden and cost.

DATES: Any additional comments on this ICR should be submitted on or before June 18, 2012.

ADDRESSES: Submit your comments, referencing Docket ID No. EPA-HQ-OAR-2004-0501 to (1) EPA online using www.regulations.gov (our preferred method); email: a-and-r-docket@epamail.epa.gov, or by mail to EPA Docket Center, Environmental Protection Agency, Air and Radiation Docket, Mail Code: 28221T, 1200 Pennsylvania Ave. NW., Washington, DC and (2) OMB by mail: Office of Information and Regulatory Affairs, Office of Management and Budget (OMB), Attention: Desk Officer for EPA, 725 17th Street NW., Washington, DC 20503.

FOR FURTHER INFORMATION CONTACT: Mollie Lemon, Climate Protection Partnerships Division, Office of Atmospheric Programs, MC 6202J, Environmental Protection Agency, 1200 Pennsylvania Ave. NW., Washington, DC 20460; telephone number: 202-343-9859; fax number: 202-343-2208; email address: lemon.mollie@epa.gov.

SUPPLEMENTARY INFORMATION: EPA has submitted the following ICR to OMB for review and approval according to the procedures prescribed in 5 CFR 1320.12. On December 28, 2011 (76 FR 81491), EPA sought comments on this ICR pursuant to 5 CFR 1320.8(d). EPA received two comments during the comment period, which are addressed in the ICR. Any additional comments on this ICR should be submitted to EPA and OMB within 30 days of this notice.

EPA has established a public docket for this ICR under Docket ID No. EPA-HQ-OAR-2004-0501, which is available for online viewing at www.regulations.gov, or in person viewing at the Air and Radiation Docket in the EPA Docket Center (EPA/DC), EPA West, Room 3334, 1301 Constitution Ave. NW., Washington, DC. The EPA/DC Public Reading Room is open from 8:30 a.m. to 4:30 p.m., Monday through Friday, excluding legal holidays. The telephone number for the Reading Room is 202-566-1744, and the telephone number for the Air and Radiation Docket is 202-566-1742.

Use EPA's electronic docket and comment system at www.regulations.gov to submit or view public comments, access the index listing of the contents of the docket, and access those documents in the docket that are available electronically. Once in the system, select “docket search,” then key in the docket ID number identified above. Please note that EPA's policy is that public comments, whether submitted electronically or in paper, will be made available for public viewing at www.regulations.gov as EPA receives them and without change, unless the comment contains copyrighted material, confidential business information (CBI), or other information whose public disclosure is restricted by statute. For further information about the electronic docket, go to www.regulations.gov.

Title: Reporting Requirements under EPA's Green Power Partnership and Combined Heat and Power (CHP) Partnership.

ICR numbers: EPA ICR No. 2173.05, OMB Control No. 2060-0578.

ICR Status: This ICR currently is scheduled to expire on June 30, 2012. Under OMB regulations, the Agency may continue to conduct or sponsor the collection of information while this submission is pending at OMB. An Agency may not conduct or sponsor, and a person is not required to respond to, a collection of information, unless it displays a currently valid OMB control number. The OMB control numbers for EPA's regulations in title 40 of the CFR, after appearing in the Federal Register when approved, are listed in 40 CFR part 9, are displayed either by publication in the Federal Register or by other appropriate means, such as on the related collection instrument or form, if applicable. The display of OMB control numbers in certain EPA regulations is consolidated in 40 CFR part 9.

Abstract: In 2001, EPA launched two new partnership programs with industry and other stakeholders: the Green Power Partnership (GPP) and the Combined Heat and Power Partnership (CHPP). These voluntary partnership programs encourage organizations to invest in clean, efficient energy technologies, including renewable energy and combined heat and power. EPA collects information from GPP and CHPP Partners to assess the success of these programs in achieving their national energy and greenhouse gas (GHG) reduction goals.

EPA has developed this ICR to obtain authorization to collect information from organizations participating in the GPP and CHPP. Organizations that join these programs voluntarily agree to the following respective actions: (1) Designating a GPP or CHPP liaison and filling out a Partnership Agreement or Letter of Intent, respectively, (2) for the GPP, reporting to EPA on an annual basis their progress toward achieving their green power commitment via a 3-page reporting form; (3) for the CHPP, reporting to EPA information on their existing CHP projects, new project development, and other CHP-related activities via a one-page reporting form (for projects) or via an informal email or phone call (for other CHP-related activities). Partners are organizational entities that have volunteered to participate in either Partnership program.

Burden Statement: The annual public reporting and recordkeeping burden for this collection of information is estimated to equal 2 hours per response. The average number of annual burden hours per type of response is: 1.96 hours for a Partnership Agreement (a one-time burden for GPP Partners), 2.14 hours for a Letter of Intent (a one-time burden for CHPP Partners), 1.38 hours for the Partner Yearly Report for the GPP, and 3.51 hours for the Partner Yearly Report for the CHPP.

Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements which subsequently have changed; train personnel to be able to respond to a collection of information; search data sources; complete and review the collection of information; and transmit or otherwise disclose the information.

Respondents/Affected Entities: Organizations participating in the Green Power Partnership and Combined Heat and Power Partnership.

Estimated Total Annual Number of Respondents: 2,216.

Frequency of Response: annually, on occasion, and one time.

Estimated Total Annual Hour Burden: 4,800.

Estimated Total Annual Cost: $256,053, which includes no capital costs, $6,744 in operations & maintenance (O&M) costs, and $249,309 in labor costs.

Changes in the Estimates: There is a decrease of 1,023 hours in the total estimated burden currently identified in the OMB Inventory of Approved ICR Burdens. Since the last ICR renewal, both the GPP and CHPP have introduced program efficiencies to reduce program burden by encouraging the electronic submission of documents directly to the program support contractors. The average number of hours per Partner decreased from 3.24 to 2.17 hours, while the total cost decreased due to a downward correction of the labor rates used to calculate respondent costs and a reduction in hours per response.

John Moses,
Director, Collection Strategies Division.

[FR Doc. 2012-11956 Filed 5-16-12; 8:45 am]

BILLING CODE 6560-50-P